DEPARTMENT OF TRANSPORTATION

Federal Aviation Administration

14 CFR Part 71

[Docket No. FAA-2013-0915; Airspace Docket No. 12-ASO-41]

RIN 2120-AA66

Modification, Revocation, and Establishment of Area Navigation (RNAV) Routes; Charlotte, NC

AGENCY: Federal Aviation Administration (FAA), DOT.

ACTION: Final rule.

SUMMARY: This action establishes two RNAV routes; modifies three RNAV routes; and removes one RNAV route in the Charlotte, NC, area. These changes, in combination with existing VOR Federal airways, provide additional routing options through and around the Charlotte, NC area.

DATES: Effective date 0901 UTC, May 29, 2014. The Director of the Federal Register approves this incorporation by reference action under 1 CFR part 51, subject to the annual revision of FAA Order 7400.9 and publication of conforming amendments.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

History

On December 19, 2013, the FAA published in the Federal Register a notice of proposed rulemaking (NPRM) to establish 2 RNAV routes; modify 3 RNAV routes; and remove 1 RNAV route in the Charlotte, NC, area (78 FR 76784). Interested parties were invited to participate in this rulemaking effort by submitting written comments on the proposal. One comment was received. The Aircraft Owners and Pilots Association expressed support for the proposal.

Differences From the NPRM

The NPRM stated that this action would support the Charlotte Optimization of Airspace and Procedures in a Metroplex (OAPM) Project. That statement resulted in some confusion over the status of the T-route proposal versus the Metroplex project. To clarify, while these new routes will enhance airspace efficiency in the Charlotte Metroplex area, the T-routes in this rule have independent utility from the Metroplex project and the environmental evaluations were conducted independently.

The Rule

The FAA is amending Title 14, Code of Federal Regulations (14 CFR) part 71 to establish 2 low-altitude RNAV routes (T-206 and T-214); modify 3 RNAV routes (T-201, T-202 and T-203); and remove 1 RNAV route (T-200), in the Charlotte, NC, area. The route changes are described below.

T-200: T-200, extending between the foothills, GA, VORTAC and the Florence, SC, VORTAC, is removed in its entirety. T-200 is seldom used because it traverses very close to the “final box” for Charlotte/Douglas International Airport (CLT) when CLT is landing to the north. The modified T-202 (see below) provides routing through the south end of the CLT Class B airspace area in place of T-200.

T-201: T-201, extending between the Columbia, SC, VORTAC (CAE) and the JOTTA, NC, fix, is shortened to extend between the MEVAE, SC, waypoint (WP) (near Bethune, SC) at the south end, and the BORTZ, NC, WP (south of the JOTTA fix) at the north end. In addition, the track of the route is shifted approximately 7 nautical miles (NM) to the east of its current position. The shift moves the route to the east of the CLT Class B airspace area where it passes through the FEGNO, NC, WP instead of the LOCAS, NC, fix (on the eastern boundary of the Class B airspace area). T-201 segregates low altitude overflight traffic from CLT departure and arrival traffic. Waypoints along the route provide connectivity with RNAV routes T-202, T-206 and T-214 (described below).

T-202: T-202 is extended at both ends: northeastward from the GANTS fix to the ZADEL WP (near Asheboro Municipal Airport [HBI], NC); and westward from the RICHE fix to the GURSH WP (near Union County Airport [35A], SC). T-202 utilizes airspace around the south of CLT when CLT is landing and departing to the south. That segment from the RICHE WP to the HUSTN WP segregates T-202 traffic from CLT departures. Waypoints along the route provide connectivity to T-201, T-206 and T-214.

T-203: T-203, extending between the Columbia, SC, VORTAC and the Pulaski, VA, VORTAC, is shortened to the ANDYS, SC, fix (near Winnsboro, SC) at the south end, and the OREAD, NC, WP (10 miles north of Hickory, NC) at the north end. In addition, the track is shifted slightly to the west of its current position but still transiting through the west side of the CLT Class B airspace area. By routing T-203 via the ROUTH, NC, WP (near Grover, SC), transiting aircraft are segregated from CLT departure airspace. Waypoints along the route provide connectivity to T-202, T-206 and T-214.

T-206: T-206 is a new route extending between the ENADE, NC, WP (near Cliffside, NC) and the ZADEL, NC, WP (near Asheboro Regional Airport [HBI], NC). The route is used to transition aircraft through the north side of the CLT Class B airspace area when CLT is landing and departing to the north. Waypoints along the route provide connectivity to T-201, T-202, T-203 and T-214. Additionally, the alignment of T-206 through the GOTHS, NC, WP (northwest of the existing MOPED, NC, fix) deconflicts transiting traffic from CLT departures.

T-214: T-214 is a new route extending between the OREAD WP and the ORPEE, NC, WP (north of Troy, NC), allowing aircraft to transition north of the CLT Class B airspace when CLT is landing and departing to the north. T-214 provides a predictable route to points northwest and west of Charlotte that are deconflicted from the CLT arrival flow.

The above routes are segregated from the heavily used arrival and departure corridors serving the Charlotte area, enhancing the efficiency of the National Airspace System in the Charlotte, NC, area.

Low altitude RNAV routes are published in paragraph 6011 of FAA Order 7400.9X dated August 7, 2013, and effective September 15, 2013, which is incorporated by reference in 14 CFR 71.1. The RNAV routes listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as required to enhance the safe and efficient flow of air traffic in the Charlotte, NC, area.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013, and effective September 15, 2013, is amended as follows:

T-200 FOOTHILLS, GA to FLORENCE, SC [Removed]
T-201 MEVAE, SC to BORTZ, NC [Amended]
MEVAE, SC | WP | (lat. 34°25′05″ N., long. 80°22′28″ W.)
TRUEX, SC | WP | (lat. 34°35′55″ N., long. 80°21′18″ W.)
FEGNO, NC | WP | (lat. 35°14′49″ N., long. 80°16′39″ W.)
NUROE, NC | WP | (lat. 35°34′37″ N., long. 80°31′15″ W.)
BORTZ, NC | WP | (lat. 35°52′56″ N., long. 80°44′56″ W.)
T-202 GURSH, SC to ZADEL, NC [Amended]
GURSH, SC. | WP | (lat. 34°42′05″ N., long. 81°30′32″ W.)
AWRYT, SC | WP | (lat. 34°42′00″ N., long. 81°14′52″ W.)
RICHE, SC | FIX | (lat. 34°41′54″ N., long. 80°59′23″ W.)
HUSTN, NC | FIX | (lat. 34°53′20″ N., long. 80°34′20″ W.)
FEGNO, NC | WP | (lat. 35°14′49″ N., long. 80°16′39″ W.)
GANTS, NC | FIX | (lat. 35°27′11″ N., long. 80°06′16″ W.)
ZADEL, NC. | WP | (lat. 35°33′47″ N., long. 80°01′47″ W.)
T-203 ANDYS, SC to OREAD, NC [Amended]
ANDYS, SC | FIX | (lat. 34°22′15″ N., long. 81°08′38″ W.)
AWRYT, SC | WP | (lat. 34°42′00″ N., long. 81°14′52″ W.)
ROUTH, NC | WP | (lat. 35°10′38″ N., long. 81°23′59″ W.)
FADOS, NC | WP | (lat. 35°28′22″ N., long. 81°20′49″ W.)
OREAD, NC | WP | (lat. 35°52′03″ N., long. 81°16′32″ W.)
T-206 ENADE, NC to ZADEL, NC [New]
ENADE, NC | WP | (lat. 35°12′08″ N., long. 81°44′41″ W.)
FADOS, NC | WP | (lat. 35°28′22″ N., long. 81°20′49″ W.)
GOTHS, NC | WP | (lat. 35°35′17″ N., long. 80°58′25″ W.)
NUROE, NC | WP | (lat. 35°34′37″ N., long. 80°31′15″ W.)
ZADEL, NC | WP | (lat. 35°33′47″ N., long. 80°01′47″ W.)
T-214 OREAD, NC to ORPEE, NC [New]
OREAD, NC | WP | (lat. 35°52′03″ N., long. 81°16′32″ W.)
BORTZ, NC | WP | (lat. 35°52′56″ N., long. 80°44′56″ W.)
THMSN, NC | WP | (lat. 35°53′21″ N., long. 80°28′57″ W.)
ZADEL, NC | WP | (lat. 35°33′47″ N., long. 80°01′47″ W.)
ORPEE, NC | WP | (lat. 35°27′12″ N., long. 79°52′56″ W.)

Issued in Washington, DC, on March 11, 2014.
Gary A. Norek,
Manager, Airspace Policy and Regulations Group.

[FR Doc. 2014-05894 Filed 3-20-14; 8:45 am]

BILLING CODE 4910-13-P